DEPARTMENT OF HOMELAND SECURITY

Coast Guard

46 CFR Part 160

[Docket No. USCG-2011-0076]

RIN 1625-AB60

Inflatable Personal Flotation Devices

AGENCY: Coast Guard, DHS.

ACTION: Direct final rule; notice of withdrawal.

SUMMARY: The Coast Guard is withdrawing its direct final rule published on March 30, 2011. The direct final rule notified the public of the Coast Guard's intent to harmonize structural and performance standards for inflatable recreational personal flotation devices (PFDs) with current voluntary industry consensus standards, and to slightly modify regulatory text in anticipation of a future rulemaking addressing the population for which inflatable recreational PFDs are approved. The Coast Guard is withdrawing that rule because we received an adverse comment. That rule will not become effective as scheduled. Instead, the Coast Guard plans to consider these issues in a notice of proposed rulemaking.

DATES: The direct final rule published March 30, 2011, (76 FR 17561), is withdrawn effective September 13, 2011.

ADDRESSES: The docket for this rulemaking, USCG-2011-0076, is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2011-0076 in the “Keyword” box, and then clicking “Search.”

FOR FURTHER INFORMATION CONTACT: If you have questions about this notice, call or e-mail Ms. Brandi Baldwin, Lifesaving and Fire Safety Division (CG-5214), U.S. Coast Guard, telephone 202-372-1394, e-mail Brandi.A.Baldwin@uscg.mil. If you have questions on viewing material in the docket, call Renee V. Wright, Program Manager, Docket Operations, telephone 202-366-9826.

SUPPLEMENTARY INFORMATION:

Background

On March 30, 2011, we published a direct final rule entitled “Inflatable Personal Flotation Devices” in the Federal Register (76 FR 17561). That rule would have revised 46 CFR part 160, subpart 160.076 to update the editions of the Underwriters Laboratories (UL) Standards incorporated by reference and made necessary conforming changes resulting from incorporating the updated standards. The conforming changes included removing test methods, acceptance criteria, and other standards currently contained in subpart 160.076 that are made redundant by the newer editions of the UL Standards. That rule also made minor regulatory text revisions to subpart 160.076 which had a non-substantive effect.

We published the rule as a direct final rule under 33 CFR 1.05-55 because we considered this rule to be noncontroversial and did not expect any adverse comment regarding this rulemaking. In the direct final rule we notified the public of our intent to make the rule effective on September 26, 2011, unless an adverse comment or notice of intent to submit an adverse comment was received on or before May 31, 2011.

We received three submissions during this comment period, and have determined that one of those submissions contains an adverse comment, as explained below. As such the Coast Guard is withdrawing the direct final rule and is instead planning to consider these issues in a notice of proposed rulemaking.

Withdrawal

The Coast Guard received three submissions in response to the direct final rule: one supportive of the rulemaking generally, one which raised questions about a revision to one of the standards incorporated by reference, and one adverse comment related to the deletion of the words “approved for use by adults only” from the regulations.

One commenter expressed support for the rule, citing the removal of barriers to the development of innovative PFDs leading to an expected improvement in the quality and variety of inflatable lifejackets available to the public. The Coast Guard appreciates this support.

One commenter expressed disagreement with a specific revision made to UL Standard 1191, which increased the tolerance for the minimum gross weight of inflation gas cylinders from 10% to 15%. Following publication of the direct final rule, UL 1191 was revised to return this value to 10%.

Another commenter expressed concern about deleting the words “approved for use by adults only”; the Coast Guard has determined this comment to be an adverse comment. In the direct final rule, we explained that a comment is considered adverse if the comment explains why this rule or a part of this rule would be inappropriate, including a challenge to its underlying premise or approach, or why it would be ineffective or unacceptable without a change (76 FR 17563). This commenter explains that deleting the words “approved for use by adults only” would create a perception that inflatable PFDs for youth would be available on the date this rule goes into effect, would facilitate teens using existing inflatable PFDs, and would enable the marketing of existing inflatable PFDs to youth. The commenter also expressed concern that this rulemaking is premature in light of the work that still needs to be done to evaluate sizing requirements for infant or child PFDs. Because the Coast Guard considers these concerns to be adverse comments, the Coast Guard is withdrawing the direct final rule. The Coast Guard will seek comment on the commenter's concerns in the forthcoming notice of proposed rulemaking.

Dated: September 7, 2011.
J.G. Lantz,
Director of Commercial Regulations and Standards, U.S. Coast Guard.

[FR Doc. 2011-23271 Filed 9-12-11; 8:45 am]

BILLING CODE 9110-04-P